POSTAL SERVICE

39 CFR Part 111

Treatment of Undeliverable Books and Sound Recordings

AGENCY: Postal Service ™.

ACTION: Final rule.

SUMMARY: The Postal Service is revising Mailing Standards of the United States Postal Service, Domestic Mail Manual, for the disposal or treatment of books and sound recordings that are undeliverable-as-addressed (UAA) in their original packaging. The disposal of these items as waste will simplify handling procedures and reduce costs.

DATES: Effective Date: February 1, 2010.

FOR FURTHER INFORMATION CONTACT: Bert Olsen, 202-268-7276, Mary Collins, 202-268-5440.

SUPPLEMENTARY INFORMATION: The Postal Service published a Federal Register proposed rule (73 FR 39272-39273) on July 9, 2008 to remove DMM section 507.1.9.2. The intent of this section was to facilitate a process for identifying and returning books and recordings that had become undeliverable as a result of being “loose in the mail” (contents separated from packaging and other address information), to the original publisher or distributor. This standard was misinterpreted to allow some publishers and distributors to reclaim ownership of all UAA mail and not just mail that was truly identified as “loose” in the mail.

Comments

We received comments from three respondents on the proposed rule. One respondent represented several trade associations and two other respondents were from separate publishing companies. All comments received were in opposition to the proposal and are summarized and presented below followed by our responses:

1. Comment: The Postal Service did not work closely and discuss the proposal with affected mailers.

The Postal Service previously offered an opportunity for mailers to provide input well before the proposal was published. Additionally, publication of the proposed rule and requests for comments (July 9, 2008) afforded mailers an additional opportunity to contribute to the rule-making process prior to issuing a final rule.

2. Comment: Due to copyright concerns and privacy issues, mailers are opposed to the Postal Service selling at auction undeliverable-as-addressed books and sound recordings.

Obligations concerning privacy issues and copyright concerns are the publisher's obligations. USPS® ancillary services allow mailers to fulfill their obligations by having undeliverable books returned to them, but only in accordance with postal services and endorsements currently available to mailers. One option when using Standard Mail® is that UAA mail can be forwarded or returned at the appropriate Media Mail or Library Mail price if the content of the mail qualifies as Media Mail under DMM 507.1.5.3, 173, 373, or 473 or Library Mail under DMM 183, 383, or 483 and the mail is marked “Media Mail” or “Library Mail” directly below the ancillary service endorsement.

3. Comment: The Postal Service should recycle undeliverable-as-addressed items.

We are currently exploring a recycling offering by adding a new ancillary endorsement that mailers could use to assure undeliverable-as-addressed mail would be destroyed so it could not be used as originally intended. This potential offering is in its formative stage but if adopted may provide an attractive endorsement alternative for manufacturers and distributors of books and sound recordings who desire destruction of their undeliverable products for a fee.

4. Comment: Provide electronic notification for the reason a mailpiece was undeliverable as addressed when using the “Return Service Requested” endorsement.

The Return Service Requested endorsement provides the reason of nondelivery by hardcopy at the time of return of the product. However, we understand that mailers would prefer to know as quickly as possible why a piece was undeliverable via electronic data. We intend to evaluate the development of an electronic notification option with the Return Service Requested endorsement for a fee as a future service offering.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR Part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

* * * * *

500 Additional Services

* * * * *

507 Mailer Services

1.0 Treatment of Mail

* * * * *

1.9 Dead Mail

* * * * *

[Delete 1.9.2 in its entirety and renumber current 1.9.3 as new 1.9.2]

* * * * *

We will publish an appropriate amendment to 39 CFR Part 111 to reflect these changes.

Neva R. Watson,
Attorney, Legislative.

[FR Doc. 2010-387 Filed 1-11-10; 8:45 am]

BILLING CODE 7710-12-P